DEPARTMENT OF LABOR

Employment and Training Administration

[TA-W-65,838]

C & W Industries, Inc., Malden, MA; Notice of Termination of Investigation

Pursuant to Section 221 of the Trade Act of 1974, as amended, an investigation was initiated on April 22, 2009, in response to a worker petition filed by a company official on behalf of workers at C & W Industries, Inc., Malden, Massachusetts.

The petitioner has requested that the petition be withdrawn. Consequently, the investigation has been terminated.

Signed at Washington, DC this 8th day of May 2009.
Linda G. Poole,
Certifying Officer, Division of Trade Adjustment Assistance.

[FR Doc. E9-13458 Filed 6-8-09; 8:45 am]

BILLING CODE 4510-FN-P